DEPARTMENT OF TRANSPORTATION

Federal Aviation Administration

Eighth Meeting—RTCA Special Committee 217: Joint With EUROCAE WG-44 Terrain and Airport Mapping Databases

AGENCY: Federal Aviation Administration (FAA), DOT.

ACTION: Notice of RTCA Special Committee 217: Joint with EUROCAE WG-44 Terrain and Airport Mapping Databases.

SUMMARY: The FAA is issuing this notice to advise the public of a meeting of RTCA Special Committee 217: Joint with EUROCAE WG-44 Terrain and Airport Mapping Databases.

DATES: The meeting will be held June 6-10, 2011, from 9 a.m. to 5 p.m.

ADDRESSES: The meeting will be held at NASA Ames Research Center, Moffett Field, Mountain View, CA 94043. For more information contact John Kasten at john.kasten@jeppesen.com, (303) 328-4535 (office), (303) 260-9652 (mobile) or alternate contact Tom Evans at e.t.evans@nasa.gov, (757) 864-2499 (office).

FOR FURTHER INFORMATION CONTACT: RTCA Secretariat, 1828 L Street, NW., Suite 805, Washington, DC 20036-5133; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Special Committee 217: Joint with EUROCAE WG-44 Terrain and Airport Mapping Databases meeting. The agenda will include:

June 6, 2011

• Opening Plenary Session

• Chairman's remarks and Introductions

• Housekeeping

• Approve minutes from previous meeting

• TOR update

• Review and Approve Meeting Agenda

• Schedule for this week

• FRAC

• Comment Resolution of Documents: Revised DO-272B and DO-291A

June 7-8, 2011

• Continue FRAC

• Comment Resolution of Documents: Revised DO-272B and DO-291A

June 9, 2011

• Consider for Approval Revised DO-272B and Revised DO-291A

• Consider/Approve FRAC Drafts for PMC Consideration—Revised DO-272B, User Requirements for Aerodrome Mapping Information and Revised DO-291A, Interchange Standards for Terrain, Obstacle, and Aerodrome Mapping Data. Revised RTCA DO272B is maintained as RTCA Paper No. 077-11/SC217-023, Revised RTCA DO/291A is maintained as RTCA Paper No. 078-11/SC217-024.

• Working Group Sessions—Work Items for DO-276

• Work Items for DO-XXX, ASRN V&V Document

• Editorial Working Group Session to clean documents as a result of FRAC of Revised DO-272B and Revised DO-291A

June 10, 2011

• Road Map for DO-272 and DO-291

• Assignment and Review of Future Work

• Other Business

• Date and Place of Next Meeting

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 6, 2011.
Robert L. Bostiga,
RTCA Advisory Committee.

[FR Doc. 2011-11578 Filed 5-11-11; 8:45 am]

BILLING CODE 4910-13-P